NUCLEAR REGULATORY COMMISSION

[Docket Nos. 50-611 and 50-612; NRC-2023-0138]

Kairos Power, LLC; Hermes 2; Environmental Assessment, Finding of No Significant Impact, and Exemptions

AGENCY: Nuclear Regulatory Commission.

ACTION: Notice; issuance.

SUMMARY: The U.S. Nuclear Regulatory Commission (NRC) is issuing an environmental assessment (EA) and finding of no significant impact (FONSI) regarding the NRC's consideration of issuance of a construction permit (CP) to Kairos Power, LLC (Kairos, the applicant) for the proposed Hermes 2 test reactor facility located in Oak Ridge, Tennessee. If approved, the CP would authorize the construction of two fluoride-salt cooled, high-temperature reactors that use solid tri-structural isotropic fuel in pebble form, intermediate liquid-sodium loops, and a common power conversion unit. In addition, the NRC is issuing exemptions from certain NRC requirements which state that the NRC staff shall prepare and issue an environmental impact statement (EIS) to support the issuance of a CP for a testing facility. The NRC is granting the exemptions and issuing the EA and FONSI concurrently to satisfy its obligations under the National Environmental Policy Act of 1969 (NEPA) and requirements under NRC regulations, related to the proposed action.

DATES: The EA and FONSI referenced in this document were available on August 30, 2024. The exemption was issued on August 30, 2024.

ADDRESSES: Please refer to Docket ID NRC-2023-0138 when contacting the NRC about the availability of information regarding this document. You may obtain publicly available information related to this document using any of the following methods:

• Federal Rulemaking Website: Go to https://www.regulations.gov and search for Docket ID NRC-2023-0138. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Cayetano Santos Jr., Office of Nuclear Reactor Regulation, U.S. Nuclear Regulatory Commission, Washington, DC 20555-0001; telephone: 301-415-7270; email: Cayetano.Santos@nrc.gov.

SUPPLEMENTARY INFORMATION:

I. Introduction

On July 14, 2023, Kairos submitted, pursuant to part 50 of title 10 of the Code of Federal Regulations (10 CFR), “Domestic Licensing of Production and Utilization Facilities,” a CP application for the Hermes 2 test reactor facility (a “testing facility” as defined in 10 CFR 50.2, “Definitions”). The application included an environmental report (ER), as required by 10 CFR 50.30(f). On September 11, 2023, the NRC staff determined that the application was acceptable for docketing under Docket Nos. 50-611 and 50-612 (88 FR 63632). If approved, the Hermes 2 test reactor facility would be located in Oak Ridge, Tennessee, and would contain two fluoride-salt cooled, high-temperature reactors that use solid tri-structural isotropic fuel in pebble form, intermediate liquid-sodium loops, and a common power conversion unit. The facility would be collocated on the same site as the Hermes 1 test reactor, which was approved for construction on December 14, 2023. The staff issued the EIS for the Kairos Hermes 1 CP application in August 2023, which determined that the action would result in SMALL (i.e., not detectable or so minor that they will neither destabilize nor noticeably alter any important attribute of an environmental resource) impacts for all resource areas.

Section 104 of the Atomic Energy Act of 1954, as amended, and its implementing regulations authorize the NRC to issue CPs for testing facilities. To issue a CP, the NRC is required to consider the environmental impacts of the proposed action under NEPA. The NRC's environmental protection regulations that implement NEPA in 10 CFR part 51 identify actions for which the NRC prepares an EIS. CPs for test reactors are an action identified as requiring an EIS.

However, based on a review of the ER submitted as part of the CP application for Hermes 2 and the results of the EIS issued for Hermes 1, the NRC staff concluded that it would be prudent to first prepare a draft EA to determine whether preparation of an EIS would be necessary or whether a FONSI could be issued for the Hermes 2 CP based on factors unique to the Hermes 2 CP application. These factors include: (1) the similar design of Hermes 2 and Hermes 1, (2) the proposed siting of Hermes 2 within a few hundred feet of Hermes 1, (3) the industrial nature and heavy prior disturbance of the site, (4) the recent thorough NEPA review performed by the staff as published in its EIS for Hermes 1, and (5) the staff's final EIS for Hermes 1 covering the same site as Hermes 2 and documenting all impacts as SMALL.

The NRC staff prepared a draft EA for the Hermes 2 CP application in accordance with the requirements in 10 CFR 51.30, “Environmental assessment.” In the draft EA, the NRC staff analyzed the environmental impacts of the CP application and alternatives, as appropriate, and concluded “that the potential impacts from Hermes 2 would be SMALL for each potentially affected environmental resource.” Based on these results, the NRC staff prepared a draft FONSI for public review and comment in accordance with 10 CFR 51.33, “Draft finding of no significant impact; distribution.” The draft FONSI stated that “the NRC staff has preliminarily determined that the proposed action would not have a significant effect on the quality of the human environment.” The NRC staff issued the draft EA and draft FONSI in the Federal Register and offered a 30-day public comment period (89 FR 32462).

After appropriate consideration of the public comments, the NRC staff finalized the EA for the Hermes 2 CP application, which is summarized in Section II of this document. Based on this final EA and in accordance with 10 CFR 51.31(a), “Determinations based on environmental assessment,” the NRC has determined that preparation of an EIS is not necessary for the Hermes 2 CP application and has prepared a FONSI in accordance with 10 CFR 51.32, “Finding of no significant impact.” The FONSI is detailed in Section III of this document.

As described in Section V of this document, the NRC staff determined that exemptions from the regulations in 10 CFR 51.20(b)(1), 10 CFR 51.25, and 10 CFR 51.75(a) are necessary to issue a final EA and FONSI instead of an EIS to meet the staff's obligations under NEPA and the NRC's regulations for the environmental review of the Hermes 2 CP application.¹ Pursuant to 10 CFR 51.6, the NRC staff concluded that the exemptions are authorized by law and otherwise in the public interest. Accordingly, the NRC staff is granting exemptions from the requirements in 10 CFR 51.20(b)(1), 10 CFR 51.25, and 10 CFR 51.75(a). The exemptions are discussed in Section V of this document.

¹ Memorandum from Daniel H. Dorman, Executive Director for Operations, to the Commissioners, dated September 13, 2023, described the NRC staff's intent to consider granting exemptions to implement this environmental review approach for the Kairos Hermes 2 construction permit application.

II. Summary of Environmental Assessment

Description of the Proposed Action and Need

The proposed action is for the NRC to issue CPs to Kairos authorizing construction of the two proposed Hermes 2 reactors. The NRC issuance of CPs would constitute authorization for Kairos to proceed with the construction of the two Hermes 2 fluoride salt-cooled test reactors at a site within the East Tennessee Technology Park in Oak Ridge, Tennessee. The proposed action also includes the granting of exemptions from the requirements in 10 CFR 51.20(b)(1), 10 CFR 51.25, and 10 CFR 51.75(a).

The issuance of a CP is a separate licensing action from the issuance of an operating license (OL). If the NRC issues CPs for Hermes 2 and Kairos were to seek NRC approval to operate Hermes 2, then Kairos would have to submit a separate application for OLs pursuant to the NRC's regulations, and Kairos would have to obtain NRC approval before it could operate the Hermes 2 test reactors. The NRC staff would review any application for an OL for Hermes 2 for new and significant information related to the environmental impacts of operating and decommissioning Hermes 2 that might alter the staff's conclusions made in the EA for the CP application.

The need for Hermes 2 is to demonstrate key elements of the Kairos Power Fluoride Salt-Cooled, High Temperature Reactor technology for possible future commercial deployment. The technology is an advanced nuclear reactor technology that leverages tri-structural isotropic particle fuel in pebble form combined with a low-pressure fluoride salt coolant. Hermes 2 would support Kairos's reactor development program, which relies on learning and risk reduction by narrowing the design space through progressive test cycles. Construction and operation of Hermes 2 also would provide validation and qualification data to support potential future commercial reactors using the Kairos Power Fluoride Salt-Cooled, High Temperature Reactor technology.

Environmental Impacts of the Proposed Action

In the final EA, the NRC staff assessed the potential direct and indirect environmental impacts from the proposed action associated with the following relevant resource areas: land use and visual resources; air quality and noise; hydrogeology and water resources; ecological resources; historic and cultural resources; socioeconomics and environmental justice; human health; nonradiological waste management; uranium fuel cycle and radiological waste management; transportation of radioactive material; and postulated accidents. The NRC staff also considered the cumulative impacts from past, present, and reasonably foreseeable future actions when combined with the proposed action.

In the final EA, the NRC staff determined that the environmental impacts of the proposed action would be SMALL for each potentially affected environmental resource, meaning that the environmental effects are not detectable or are so minor that they will neither destabilize nor noticeably alter any important attribute of the resource. In addition, the NRC staff determined that the projected effects of climate change would not alter any of the impact determinations described in the EA. Furthermore, the NRC staff found that there would be no significant cumulative impact to any resource area from the proposed action when added to other past, present, and reasonably foreseeable future actions. The NRC staff also determined that there would be no additional environmental impacts resulting from the issuance of the exemptions.

Environmental Impacts of the Alternatives to the Proposed Action

The NRC staff identified a range of reasonable alternatives to the proposed action and the environmental impacts of the alternatives as appropriate. The NRC staff identified and analyzed the reasonable alternatives to authorizing the exemptions as well. The NRC staff determined that there are no alternatives that meet the purpose and need for the proposed action and exemptions that are environmentally preferrable to the proposed action and exemptions.

III. Finding of No Significant Impact

The proposed action before the NRC is whether to issue CPs (one for each unit) to Kairos to authorize construction of the two proposed reactors making up the Hermes 2 project. The proposed action also includes whether to grant exemptions from the requirements in 10 CFR 51.20(b)(1), 10 CFR 51.25, and 10 CFR 51.75(a). The NRC has conducted an environmental review of the Kairos application for the CPs for the Hermes 2 project as well as the proposed exemptions and prepared an EA. This FONSI incorporates by reference the EA summarized in Section II of this notice and referenced in Section IV of this notice. Based on the NRC staff's determinations in the EA that the environmental impacts would be SMALL for each potentially affected resource area and there would be no additional environmental impacts resulting from the issuance of the exemptions, the NRC staff has determined, after consideration of public comments, that the proposed action would not have a significant effect on the quality of the human environment. Accordingly, the NRC staff has made a determination that preparation of an EIS is not required for the proposed action and that a FONSI is warranted. This finding and the related environmental documents referenced throughout the EA are available for public inspection as discussed in the EA and Section IV of this notice.

IV. Availability of Documents

The EA, FONSI, and other related documents are accessible online in the ADAMS Public Documents collection at https://www.nrc.gov/reading-rm/adams.html. The documents identified in the following table are available to interested persons through ADAMS, as indicated.

Document description | ADAMS accession No.
Environmental Assessment and Finding of No Significant Impact for the Construction Permits and Environmental Review Exemptions for the Kairos Hermes 2 Test Reactors, Final Report, dated August 2024 | ML24240A034.
Environmental Assessment and Finding of No Significant Impact for the Construction Permits for the Kairos Hermes 2 Test Reactors, Draft Report for Comment, dated April 2024 | ML24103A002.
Kairos Power, LLC—Issuance of Construction Permit for Hermes 1 Test Reactor, dated December 14, 2023 | ML23338A260 (Package).
Kairos Power, LLC, Submittal of the Construction Permit Application for the Hermes 2 Kairos Power Fluoride Salt-Cooled, High Temperature Non-Power Reactor, dated July 14, 2023 | ML23195A121 (Package).
Kairos Power, LLC, Hermes 2 Non-Power Reactor Environmental Report, dated July 14, 2023 | ML23195A125.
SECY-23-0080, “Environmental Review Approach for the Kairos Power, LLC, Hermes 2 Construction Permit Application,” dated September 13, 2023 | ML23214A165.
NUREG-2263, “Environmental Impact Statement for the Construction Permit for the Kairos Hermes [1] Test Reactor,” Final Report, dated August 2023 | ML23214A269.

V. Exemptions

Background

In 2021 Kairos submitted a CP application and ER for the Hermes 1 test reactor facility in Oak Ridge, Tennessee. The NRC's regulations in 10 CFR part 51 implement NEPA, and in accordance with 10 CFR 51.20(b)(1), the NRC staff is required to develop an EIS for the issuance of the CP for a testing facility. As a result, the NRC staff issued an EIS for the Kairos Hermes 1 CP application in August 2023, which determined that the action would result in SMALL (i.e., not detectable or so minor that they will neither destabilize nor noticeably alter any important attribute of an environmental resource) impacts for all resource areas. On December 14, 2023, the NRC issued a CP to Kairos for the Hermes 1 facility.

On July 14, 2023, Kairos filed another CP application and ER for the Hermes 2 test reactor facility also located in Oak Ridge, Tennessee. On September 11, 2023, the NRC staff determined that the Hermes 2 CP application was acceptable for docketing. If approved, the Hermes 2 test reactor facility would also be located in Oak Ridge, Tennessee within a few hundred feet of the site for the previously approved CP for the Hermes 1 test reactor facility. Hermes 1 is a single unit test reactor facility while Hermes 2 is a two-unit facility. Both Hermes 1 and Hermes 2 would employ Kairos's fluoride-salt cooled, high-temperature reactor technology that uses solid tri-structural isotropic fuel in pebble form. Hermes 2 would also include intermediate salt loops and a common power generation system. The Hermes 2 facility includes most of the same structures, systems, and components as the Hermes 1 facility and large portions of the Hermes 2 preliminary safety analysis report are identical to that for Hermes 1.

Action

The regulations in 10 CFR part 51 implement NEPA in a manner that is consistent with NRC's domestic licensing and related regulatory authority under the Atomic Energy Act of 1954, as amended, and the Energy Reorganization Act of 1974, as amended. The NRC's environmental protection regulations that implement NEPA in 10 CFR part 51 identify actions for which the NRC prepares an EIS. CPs for test reactors are an action identified as requiring an EIS.

However, based on a review of the ER submitted as part of the CP application for Hermes 2 and the results of the EIS issued for Hermes 1, the NRC staff concluded that it would be prudent to first prepare an EA to determine whether preparation of an EIS would be necessary or whether a FONSI could be issued for the Hermes 2 CP based on factors unique to the Hermes 2 CP application. On April 26, 2024 (89 FR 32462), the NRC staff issued a draft EA and draft FONSI and offered a 30-day public comment period. The NRC staff finalized the EA for the Hermes 2 CP application, which is summarized in Section II of this document. Based on this final EA and consideration of public comments, the NRC has determined that preparation of an EIS is not necessary for the Hermes 2 CP application and has prepared a FONSI, which is detailed in Section III of this document.

The NRC staff determined that exemptions from the regulations in 10 CFR 51.20(b)(1), 10 CFR 51.25, and 10 CFR 51.75(a) are necessary to issue a final EA and FONSI instead of an EIS to meet the staff's obligations under NEPA and the NRC's regulations for the environmental review of the Hermes 2 CP application. The regulation in 10 CFR 51.20(b)(1) requires an EIS or a supplement to an EIS for the issuance of a permit to construct a testing facility. Based on the final EA, which is summarized in Section II of this document, and in accordance with 10 CFR 51.31(a), the NRC staff has determined that preparation of an EIS is not necessary for the Hermes 2 CP application and has prepared a FONSI, which is detailed in Section III of this document. Since the NRC staff is issuing a FONSI instead of an EIS for the Hermes 2 CP environmental review, an exemption from 10 CFR 51.20(b)(1) is needed.

The regulation in 10 CFR 51.25 requires that the appropriate NRC staff director determine on the basis of the criteria and classifications of types of actions in 10 CFR 51.20, “Criteria for and identification of licensing and regulatory actions requiring environmental impact statements,” whether an EIS or EA should be prepared. The NRC staff did not use the criteria in 10 CFR 51.20 to determine whether an EIS or EA should be prepared for the Hermes 2 CP environmental review. Instead, based on factors unique to the Hermes 2 CP application, the NRC staff prepared an EA to determine whether preparation of an EIS would be necessary or whether a FONSI could be issued. Therefore, an exemption from 10 CFR 51.25 is needed.

The regulation in 10 CFR 51.75(a) requires preparation of a draft EIS related to the issuance of a CP for a production or utilization facility. The NRC staff prepared an EA for the Hermes 2 CP environmental review to determine whether preparation of an EIS would be necessary or whether a FONSI could be issued. Since no draft EIS related to the Hermes 2 CP environmental review was prepared, an exemption from 10 CFR 51.75(a) is needed.

Discussion

Pursuant to 10 CFR 51.6, “Specific exemptions,” the Commission may, upon application of any interested person, or upon its own initiative, grant exemptions from the requirements of 10 CFR part 51 that it determines are (1) authorized by law and (2) otherwise in the public interest.

Exemptions Are Authorized by Law

As discussed as follows, the exemptions allowing the NRC staff to issue a final EA and FONSI instead of an EIS are authorized by law because the NRC will satisfy its NEPA obligations by issuing a final EA and FONSI for the Hermes 2 testing facility, and the issuance of this final EA and FONSI will not violate any other applicable statute or NRC regulation. NEPA provides flexibility for how the NRC can satisfy its statutory obligations. Section 102(2)(C) of NEPA, as amended by the Fiscal Responsibility Act of 2023, states that agencies must provide a “detailed statement” for “major Federal actions significantly affecting the quality of the human environment.” Section 106(b)(1) of NEPA states that any agency shall issue an EIS for an action “that has a reasonably foreseeable significant effect on the quality of the human environment.” Section 106(b)(2) states that an agency shall prepare an EA for an action “that does not have a reasonably foreseeable significant effect on the quality of the human environment, or if the significance of such effect is unknown,” unless the agency finds that the proposed action is excluded pursuant to, among other things, another provision of law. Further, Section 106(b)(2) provides that the EA shall be a concise public document prepared by a Federal agency to set forth the basis of such agency's finding of no significant impact or determination that an environmental impact statement is necessary.

The draft EA for Hermes 2 evaluated the potential impacts to 11 environmental resources relevant to the construction, operation, and decommissioning of the Hermes 2 test reactor facility. In the draft EA, the NRC staff incorporated by reference significant portions of the final EIS for Hermes 1 based on the following considerations: (1) the staff's final EIS for Hermes 1, which covered the same site as Hermes 2; (2) the recent publication of the Hermes 1 final EIS in 2023; and (3) the significant design similarities between Hermes 2 and Hermes 1. The draft EA concluded that the environmental impacts would be SMALL for each of the 11 potentially affected resource areas, and that the proposed action would not have a significant effect on the quality of the human environment.

The draft EA and draft FONSI were issued for public comment over a 30-day period beginning on April 26, 2024 (89 FR 32462). The NRC received comments from multiple Federal, state, and local agencies, other stakeholders, and the public. The NRC staff prepared responses to each comment and presented the comments and responses in an appendix to the EA. After consideration of these public comments, the NRC staff finalized the EA for the Hermes 2 CP application. Based on this final EA and in accordance with 10 CFR 51.31(a), the NRC has determined that preparation of an EIS is not necessary for the Hermes 2 CP application and has prepared a FONSI in accordance with 10 CFR 51.32. The final EA and FONSI are detailed in Section II and III of this document, respectively. As such, the NRC staff concludes that its statutory obligations under NEPA will be satisfied by issuance of the final EA and FONSI.

As previously noted, 10 CFR 51.6 allows the NRC to grant exemptions from the requirements of 10 CFR part 51. The NRC has determined that granting the proposed exemptions will not result in a violation of the Atomic Energy Act of 1954, as amended, NEPA, other applicable statutes, or the NRC's regulations. Accordingly, the NRC finds that the exemptions are authorized by law.

Exemptions Are Otherwise in the Public Interest

The NRC staff has determined that the exemptions are in the public interest because they allow the Commission to regulate with efficiency and openness in accordance with the NRC's “Principles of Good Regulation” ² while still allowing adequate opportunity for public involvement. Specifically, the exemptions are in the public interest because they enhance public confidence in the NRC by demonstrating the NRC's commitment to efficiency and openness as principles of good regulation. The NRC's mission is to regulate the nation's civilian use of radioactive materials to provide reasonable assurance of adequate protection of public health and safety and to promote common defense and security and to protect the environment. The NRC adheres to its Principles of Good Regulation in carrying out this mission. These principles focus on ensuring safety and security while appropriately balancing the interests of NRC's stakeholders, including the public interest.

² https://www.nrc.gov/about-nrc/values.html.

The NRC describes the “Efficiency” principle, in part, as follows: “Regulatory activities should be consistent with the degree of risk reduction they achieve. Where several effective alternatives are available, the option, which minimizes the use of resources should be adopted. Regulatory decisions should be made without undue delay.” Consistent with the NRC's “Efficiency” principle, granting these exemptions, allows the NRC staff to “minimize the use of resources” and make its regulatory decision as efficiently as possible while still fulfilling its NEPA obligations through the issuance of an EA and FONSI. The NRC staff estimates that the duration of the Hermes 2 CP environmental review was reduced by 3 to 6 months compared to doing an EIS. The time and resource savings on the environmental review for the Hermes 2 CP allows the NRC staff to allocate those resources to environmental reviews of other proposed projects, thereby helping the agency to better fulfill its mission of protecting people and the environment in a timely manner.

The exemptions are also in the public interest because preparation of a draft EA and draft FONSI for the Hermes 2 CP in accordance with 10 CFR 51.33 and consideration of public comments provided adequate opportunity for public involvement consistent with the NRC's “Openness” principle of good regulation. This principle is described, in part, as follows: “Nuclear regulation is the public's business, and it must be transacted publicly and candidly. The public must be informed about and have the opportunity to participate in the regulatory processes as required by law.” The staff determined that a 30-day public comment period on the draft EA offered stakeholders an adequate opportunity to comment on a project on a site and reactor technology with which they have recently become familiarized through the NRC's environmental review for Hermes 1.

In accordance with the NRC regulations in 10 CFR part 51 that implement NEPA, the NRC staff considered the environmental impacts of the construction of the Hermes 1 test reactor facility by preparing an EIS. The NRC staff conducted a thorough environmental review which included scoping, consultation with Federal agencies and Tribal officials, an environmental audit, public meetings, and a public comment period. These public involvement opportunities were used by the staff to support development of an EIS. In August 2023 the NRC staff issued the EIS for the Hermes 1 CP application which determined that the action would result in SMALL impacts for all resource areas.

Since the Hermes 1 and Hermes 2 test reactor facilities are of similar design and will be located at the same site, the NRC staff's decision to prepare an EA and FONSI for Hermes 2 was informed by the EIS for Hermes 1, including public and other stakeholder comments used to scope the EIS and to finalize the draft EIS. Substantial portions of the Hermes 1 EIS, reflecting scoping comments and comments received on the draft EIS, were incorporated by reference into the EA for Hermes 2. Since the final EIS for Hermes 1 was issued recently (in August 2023) and significant portions of it were incorporated by reference into the EA for Hermes 2, public involvement in the Hermes 1 EIS is pertinent to and reflected in the Hermes 2 EA. The NRC staff also published the draft EA and draft FONSI for the Hermes 2 CP application in the Federal Register in accordance with 10 CFR 51.33 and offered a 30-day period for the public to comment (89 FR 32462, April 26, 2024). By doing this, the NRC staff preserved ample opportunity for the public to remain informed and raise any additional environmental concerns specific to Hermes 2.

Accordingly, for the previously stated reasons, the NRC finds that the exemptions are otherwise in the public interest.

Environmental Considerations for Exemptions

In accordance with 10 CFR 51.31(a), the Commission has determined that the granting of these exemptions will not have a significant effect on the quality of the human environment, as discussed in the NRC staff's final EA and FONSI. A summary of the EA and the detailed FONSI are located in Sections II and III of this document, respectively.

Exemption Conclusion

Accordingly, the NRC has determined that pursuant to 10 CFR 51.6, that the exemptions are authorized by law and otherwise in the public interest. Therefore, the NRC hereby grants one-time exemptions from the requirements in 10 CFR 51.20(b)(1), 10 CFR 51.25, and 10 CFR 51.75(a) to allow the NRC to issue a final EA and FONSI instead of an EIS to meet its obligations under NEPA and the NRC's regulations for the environmental review of the Hermes 2 CP application.

The exemptions are effective on August 30, 2024.

Dated: August 30, 2024.
For the Nuclear Regulatory Commission.
Jeremy Bowen,
Director, Division of Advanced Reactors and Non-power Production and Utilization Facilities, Office of Nuclear Reactor Regulation.

[FR Doc. 2024-19914 Filed 9-4-24; 8:45 am]

BILLING CODE 7590-01-P